DEPARTMENT OF TRANSPORTATION

Federal Aviation Administration

14 CFR Part 39

[Docket No. FAA-2020-0451; Product Identifier 2020-NM-036-AD]

RIN 2120-AA64

Airworthiness Directives; Airbus SAS Airplanes

AGENCY: Federal Aviation Administration (FAA), DOT.

ACTION: Notice of proposed rulemaking (NPRM).

SUMMARY: The FAA proposes to supersede Airworthiness Directive (AD) 99-01-19 and AD 2004-25-02, which apply to certain Airbus SAS Model A320 series airplanes. AD 99-01-19 and AD 2004-25-02 require repetitive inspections to detect fatigue cracking in certain areas of the fuselage, and corrective action if necessary. AD 2004-25-02 also provides an optional terminating action for the repetitive inspections. Since the FAA issued AD 2004-25-02, it has been reported that, during full scale tests to support the Model A320 structure extended service goal (ESG) exercise, several cracks were found on both sides of the overwing emergency exit door cut-outs at fuselage section 15. This proposed AD would continue to require, for certain airplanes, repetitive inspections of the fastener holes for any cracking, and repair if necessary, and would provide an optional terminating action for the fastener hole inspections. This proposed AD would also expand the applicable airplanes and require, for all airplanes, inspections of the emergency exit door structure for any cracking and repair if necessary; as specified in a European Union Aviation Safety Agency (EASA) AD, which will be incorporated by reference. The FAA is proposing this AD to address the unsafe condition on these products.

DATES: The FAA must receive comments on this proposed AD by July 20, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For EASA material that will be incorporated by reference (IBR) in this AD, contact the EASA, Konrad-Adenauer-Ufer 3, 50668 Cologne, Germany; telephone +49 221 89990 1000; email ADs@easa.europa.eu; internet www.easa.europa.eu. You may find this IBR material on the EASA website at https://ad.easa.europa.eu. For Airbus service information identified in this proposed AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0451.

Examining the AD Docket

You may examine the AD docket on the internet at https://www.regulations.gov by searching for and locating Docket No. FAA-2020-0451; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Comments Invited

The FAA invites you to send any written relevant data, views, or arguments about this proposal. Send your comments to an address listed under the ADDRESSES section. Include “Docket No. FAA-2020-0451; Product Identifier 2020-NM-036-AD” at the beginning of your comments. The FAA specifically invites comments on the overall regulatory, economic, environmental, and energy aspects of this NPRM. The FAA will consider all comments received by the closing date and may amend this NPRM based on those comments.

The FAA will post all received comments, without change, to https://www.regulations.gov, including any personal information you provide. The FAA will also post a report summarizing each substantive verbal contact the agency receives about this NPRM.

Discussion

The FAA issued AD 2004-25-02, Amendment 39-13889 (70 FR 1184, January 6, 2005) (“AD 2004-25-02”), which applies to certain Airbus SAS Model A320 series airplanes. AD 2004-25-02 requires repetitive inspections to detect fatigue cracking in certain areas of the fuselage, and corrective action if necessary. AD 2004-25-02 also provides an optional terminating action for the repetitive inspections. The FAA issued AD 2004-25-02 to address fatigue cracking of the fuselage, which could result in reduced structural integrity of the airplane.

AD 2004-25-02 specifies that accomplishing the inspection in paragraph (i) of that AD terminates the repetitive inspection requirements of that AD. In addition, paragraph (f) of AD 2004-25-02 specifies that accomplishing the inspection in that paragraph terminates the requirements of AD 99-01-19, Amendment 39-10987 (64 FR 1114, January 8, 1999) (“AD 99-01-19”).

Actions Since AD 2004-25-02 Was Issued

Since the FAA issued AD 2004-25-02, the agency has determined additional action is necessary to address the identified unsafe condition and that additional airplanes are affected by the unsafe condition.

The EASA, which is the Technical Agent for the Member States of the European Union, has issued EASA AD 2020-0040, dated February 28, 2020 (“EASA AD 2020-0040”) (also referred to as the Mandatory Continuing Airworthiness Information, or “the MCAI”), to correct an unsafe condition for all Airbus SAS Model A319-111, -112, -113, -114, -115, -131, -132, and -133 airplanes; and Model A320-211, -212, -214, -215, -216, -231, -232, and -233 airplanes. Model A320-215 airplanes are not certified by the FAA and are not included on the U.S. type certificate data sheet; this AD therefore does not include those airplanes in the applicability. EASA AD 2020-0040 supersedes French AD 2002-259(B), dated May 15, 2002 (which corresponds to FAA AD 2004-25-12).

This proposed AD was prompted by a report that during full scale tests to support the Model A320 structure ESG exercise, several cracks were found on both sides of the overwing emergency exit door cut-outs at fuselage section 15. The FAA is proposing this AD to address fatigue cracking of the fuselage, which could result in reduced structural integrity of the airplane. See the MCAI for additional background information.

Explanation of Retained Requirements

Paragraphs (g), (h), (i), and (j) of this proposed AD restate the requirements and optional terminating action of AD 2004-25-02, except a terminating action for repaired areas is removed as of the effective date of this AD. Paragraph (h) of AD 2004-25-02 (which corresponds to paragraph (i) of this proposed AD), specifies that accomplishment of the repair terminates the repetitive inspections for the area repaired. However, paragraph (3) of EASA AD 2020-0040, specifies that the repair does not terminate the repetitive inspections. The corresponding FAA paragraph (paragraph (i) of this proposed AD) specifies the repair does not terminate the inspections as of the effective date of this AD.

In addition, the FAA has revised the service information compliance language for the optional modification. Paragraph (i) of AD 2004-25-02 refers to using Airbus Service Bulletin A320-53-1031, dated December 9, 1994; or Revision 02, dated December 5, 2001, for the optional modification. However, paragraph (j) of this proposed AD specifies using Airbus Service Bulletin A320-53-1031, Revision 02, dated December 5, 2001, for the optional modification. The FAA has added paragraph (m) of this proposed AD to provide credit for the optional modification if done using Airbus Service Bulletin A320-53-1031, dated December 9, 1994.

Also, the FAA did not restate paragraph (j) of AD 2004-25-02 in this proposed AD because that paragraph was informational. If Airbus Service Bulletin A320-53-1031, dated December 9, 1994; or Revision 02, dated December 5, 2001; was used for the optional modification while complying with AD 99-01-19, operators are in compliance with paragraph (i) of AD 2004-25-02 (which now corresponds to paragraphs (j) and (m) of this proposed AD).

Related IBR Material Under 1 CFR Part 51

EASA AD 2020-0040 describes, among other actions, procedures for inspections of the emergency exit door structure for any cracking and repair, and if necessary.

Airbus has issued Service Bulletin A320-53-1031, Revision 02, dated December 5, 2001. This service information describes procedures for repetitive rotating probe inspections of the fasteners holes and repair if necessary.

This AD would also require Airbus Service Bulletin A320-53-1032, Revision 02, dated December 5, 2001, which the Director of the Federal Register approved for incorporation by reference as of February 10, 2005 (70 FR 1184, January 6, 2005).

This AD would also require Airbus Service Bulletin A320-53-1032, Revision 01, dated January 15, 1998, which the Director of the Federal Register approved for incorporation by reference as of February 12, 1999 (64 FR 1114, January 8, 1999).

This material is reasonably available because the interested parties have access to it through their normal course of business or by the means identified in the ADDRESSES section.

FAA's Determination and Requirements of This Proposed AD

This product has been approved by the aviation authority of another country, and is approved for operation in the United States. Pursuant to the FAA's bilateral agreement with the State of Design Authority, the FAA has been notified of the unsafe condition described in the MCAI referenced above. The FAA is proposing this AD because the agency evaluated all pertinent information and determined an unsafe condition exists and is likely to exist or develop on other products of the same type design.

Proposed AD Requirements

This proposed AD would retain the requirements of AD 2014-25-02. This proposed AD would also expand the applicability and require accomplishing the actions specified in EASA AD 2020-0040 described previously, as incorporated by reference, except for any differences identified as exceptions in the regulatory text of this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities (CAAs) to use this process. As a result, EASA AD 2020-0040 will be incorporated by reference in the FAA final rule. This proposed AD would, therefore, require compliance with EASA AD 2020-0040 in its entirety, through that incorporation, except for any differences identified as exceptions in the regulatory text of this proposed AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2020-0040 that is required for compliance with EASA AD 2020-0040 will be available on the internet at https://www.regulations.gov by searching for and locating Docket No. FAA-2020-0451 after the FAA final rule is published.

Costs of Compliance

The FAA estimates that this proposed AD affects 800 airplanes of U.S. registry. The FAA estimates the following costs to comply with this proposed AD:

Estimated Costs for Required Actions *
Action | Labor cost | Parts cost | Cost per product | Cost on U.S. operators
Retained actions from AD 2004-25-02 | Up to 19 work-hours × $85 per hour = Up to $1,615 | $0 | Up to $1,615 | Up to $1,292,000.
New proposed actions | Up to 23 work-hours × $85 per hour = Up to $1,955 | 0 | Up to $1,955 | Up to $1,564,000.

The FAA estimates the following costs to do any necessary on-condition actions that would be required based on the results of any required actions. The FAA has no way of determining the number of aircraft that might need these on-condition actions:

Estimated Costs of On-Condition Actions: Modification, Repair of Fastener Holes, and Repair of Cracks in the Emergency Exit Door Structure That Are Within Limits
Labor cost | Parts cost | Cost per product
Up to 66 work-hours × $85 per hour = Up to $5,610 | Up to $85,000 | Up to $90,610.

The FAA has received no definitive data that would enable the agency to provide cost estimates for the on-condition repair of cracks in the emergency exit door structure that are not within limits that is specified in this proposed AD.

Estimated Costs for Optional Actions
Labor cost | Parts cost | Cost per product
1 work-hour × $85 per hour = $85 | $4,219 | $4,304

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 99-01-19, Amendment 39-10987 (64 FR 1114, January 8, 1999); and AD 2004-25-02, Amendment 39-13889 (70 FR 1184, January 6, 2005); and adding the following new AD:

Airbus SAS: Docket No. FAA-2020-0451; Product Identifier 2020-NM-036-AD.

(a) Comments Due Date

The FAA must receive comments by July 20, 2020.

(b) Affected ADs

This AD replaces AD 99-01-19, Amendment 39-10987 (64 FR 1114, January 8, 1999) (“AD 99-01-19”); and AD 2004-25-02, Amendment 39-13889 (70 FR 1184, January 6, 2005) (“AD 2004-25-02”).

(c) Applicability

This AD applies to all Airbus SAS Model A319-111, -112, -113, -114, -115, -131, -132, and -133 airplanes; and Model A320-211, -212, -214, -216, -231, -232, and -233 airplanes, certificated in any category.

(d) Subject

Air Transport Association (ATA) of America Code 53, Fuselage.

(e) Reason

This AD was prompted by a report that, during full scale tests to support the Model A320 structure extended service goal (ESG) exercise, several cracks were found on both sides of the overwing emergency exit door cut-outs at fuselage section 15. The FAA is issuing this AD to address fatigue cracking of the fuselage, which could result in reduced structural integrity of the airplane.

(f) Compliance

Comply with this AD within the compliance times specified, unless already done.

(g) Retained Initial Inspections, with No Changes

For Airbus SAS Model A320-111, -211, -212, and -231 series airplanes on which Airbus Modification 21346 has not been done: This paragraph restates the requirements of paragraph (f) of AD 2004-25-02, with no changes. At the applicable time specified in paragraph (g)(1) or (2) of this AD: Do a detailed inspection to find cracking on the outboard flanges around the fastener holes of frames 38 through 41, between stringers 12 and 21, using Airbus Service Bulletin A320-53-1032, Revision 02, dated December 5, 2001.

(1) For airplanes on which the inspection specified in Airbus Service Bulletin A320-53-1032, Revision 01, dated January 15, 1998; or Airbus Service Bulletin A320-53-1032, Revision 02, dated December 5, 2001; has been done as of February 10, 2005 (the effective date of AD 2004-25-02): Do the next inspection within 4,900 flight cycles after accomplishment of the last inspection, or within 1,100 flight cycles after February 10, 2005, whichever is later.

(2) For airplanes on which no inspection specified in Airbus Service Bulletin A320-53-1032, Revision 01, dated January 15, 1998; or Airbus Service Bulletin A320-53-1032, Revision 02, dated December 5, 2001; has been done as of February 10, 2005 (the effective date of AD 2004-25-02): Do the inspection at the earlier of the times specified in paragraphs (g)(2)(i) and (ii) of this AD.

(i) Before the accumulation of 30,000 total flight cycles.

(ii) Before the accumulation of 24,800 total flight cycles, or within 3,500 flight cycles after February 10, 2005 (the effective date of AD 2004-25-02), whichever is later.

(h) Retained Repetitive Inspections if No Cracking Is Found, With No Changes

This paragraph restates the requirements of paragraph (g) of AD 2004-25-02, with no changes. If no crack is found during the inspection required by paragraph (g)(1) or (2) of this AD: Repeat the inspection thereafter at intervals not to exceed 4,900 flight cycles.

(i) Retained Corrective Actions With New Repetitive Inspections and Compliance Language

This paragraph restates the requirements of paragraph (h) of AD 2004-25-02, with new repetitive inspections and compliance language. If any crack is found during any inspection required by paragraph (g) of this AD, before further flight, repair using Airbus Service Bulletin A320-53-1032, Revision 01, dated January 15, 1998; or Airbus Service Bulletin A320-53-1032, Revision 02, dated December 5, 2001. Accomplishment of a repair using the service bulletin before the effective date of this AD ends the repetitive inspection requirements for the area repaired. As of the effective date of this AD, the repair does not constitute terminating action for the repetitive inspection. Thereafter, repeat the inspection at intervals not to exceed 4,900 flight cycles. If any crack is found during any inspection required by this AD, and the service bulletin specifies to contact Airbus for appropriate action: Before further flight, repair using a method approved by the Manager, Large Aircraft Section, International Validation Branch, FAA.

(j) Retained Optional Terminating Action With Changes to the Service Information Compliance Language

This paragraph restates the optional terminating action specified in paragraphs (i) and (j) of AD 2004-25-02, with changes to the service information compliance language. Accomplishment of Airbus Modification 21346 using Airbus Service Bulletin A320-53-1031, Revision 02, dated December 5, 2001, constitutes terminating action for the repetitive inspection requirements of paragraphs (h) and (i) this AD.

(k) New Requirements

Except as specified in paragraph (l) of this AD: Comply with all required actions and compliance times specified in, and in accordance with, European Union Aviation Safety Agency (EASA) AD 2020-0040, dated February 28, 2020 (“EASA AD 2020-0040”).

(l) Exceptions to EASA AD 2020-0040

(1) Where EASA AD 2020-0040 refers to its effective date, this AD requires using the effective date of this AD.

(2) Where EASA AD 2020-0040 requires the accomplishment of repetitive inspections and corrective actions as specified in paragraphs (1) and (2) of the EASA AD, those actions are not required by this AD as specified in the EASA AD. Those actions are required by paragraphs (g), (h), and (i) of this AD.

(m) Credit for Previous Actions

This paragraph provides credit for the optional terminating action specified in paragraph (j) of this AD, if Airbus Modification 21346 was performed before the effective date of this AD using Airbus Service Bulletin A320-53-1031, dated December 9, 1994.

(n) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, FAA, send it to the attention of the person identified in paragraph (o)(2) of this AD. Information may be emailed to: 9-ANM-116-AMOC-REQUESTS@faa.gov.

(i) Before using any approved AMOC, notify your appropriate principal inspector, or lacking a principal inspector, the manager of the local flight standards district office/certificate holding district office.

(ii) AMOCs approved previously for AD 2004-25-02 are approved as AMOCs for the corresponding provisions of paragraphs (g) through (j) of this AD.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(o) Related Information

(1) For information about EASA AD 2020-0040, contact the EASA, Konrad-Adenauer-Ufer 3, 50668 Cologne, Germany; telephone +49 221 89990 6017; email ADs@easa.europa.eu; Internet www.easa.europa.eu. You may find this EASA AD on the EASA website at https://ad.easa.europa.eu. For Airbus service information identified in this AD, contact Airbus SAS, Airworthiness Office—EIAS, Rond-Point Emile Dewoitine No: 2, 31700 Blagnac Cedex, France; telephone +33 5 61 93 36 96; fax +33 5 61 93 44 51; email account.airworth-eas@airbus.com; internet https://www.airbus.com. You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0451.

(2) For more information about this AD, contact Sanjay Ralhan, Aerospace Engineer, Large Aircraft Section, International Validation Branch, FAA, 2200 South 216th St., Des Moines, WA 98198; telephone and fax 206-231-3223; email Sanjay.Ralhan@faa.gov.

Issued on May 29, 2020.
Gaetano A. Sciortino,
Deputy Director for Strategic Initiatives, Compliance & Airworthiness Division, Aircraft Certification Service.

[FR Doc. 2020-12025 Filed 6-3-20; 8:45 am]

BILLING CODE 4910-13-P